DEPARTMENT OF HEALTH AND HUMAN SERVICES

Administration for Children and Families

Request for Information: Technical Assistance Needs and Priorities on Implementation and Coordination of Early Childhood Development Programs in American Indian and Alaska Native Communities; Correction

AGENCY: Administration for Children and Families, HHS.

ACTION: Notice; correction.

SUMMARY: The Administration for Children and Families published a document in the Federal Register of March 22, 2022 concerning a request for information on technical assistance needs and priorities on implementation and coordination of early childhood development programs in American Indian and Alaska Native communities. The document contained incorrect dates.

FOR FURTHER INFORMATION CONTACT: Moushumi Beltangady at Moushumi.beltangady@acf.hhs.gov or 202-260-3613.

SUPPLEMENTARY INFORMATION:

Correction

In the Federal Register of March 22, 2022, in FR Doc. 2022-05962 (Vol. 87, No. 55) on page 16195, in the first column, final line, correct the Dates caption to read:

DATES: Send comments on or before May 20, 2022.

Kathleen D. Hamm,
Deputy Assistant Secretary for Early Childhood Development, Administration for Children and Families, U.S. Department of Health and Human Services.

[FR Doc. 2022-07840 Filed 4-12-22; 8:45 am]

BILLING CODE P